DEPARTMENT OF TRANSPORTATION

National Highway Traffic Safety Administration

49 CFR Part 571

[Docket No. NHTSA-2024-0071]

RIN 2127-AL37

Federal Motor Vehicle Safety Standards; Occupant Crash Protection, Seat Belt Reminder Systems, Controls and Displays

AGENCY: National Highway Traffic Safety Administration (NHTSA), Department of Transportation (DOT).

ACTION: Final rule; delay of effective date.

SUMMARY: This document delays until March 20, 2025, the effective date of the January 3, 2025, final rule that amended Federal Motor Vehicle Safety Standard (FMVSS) No. 208, “Occupant crash protection,” to require a seat belt use warning system for rear seats and enhance the seat belt warning requirements for the front outboard seats.

DATES: The effective date of the rule amending 49 CFR part 571 published January 3, 2025, at 90 FR 390, is delayed until March 20, 2025.

ADDRESSES: Correspondence related to this rule should refer to the docket number set forth above (NHTSA-2024-0071) and be submitted to regulations.gov or the Administrator, National Highway Traffic Safety Administration, 1200 New Jersey Avenue SE, Washington, DC 20590.

FOR FURTHER INFORMATION CONTACT: For non-legal issues, you may contact Ms. Carla Rush, Office of Crashworthiness Standards, Telephone: (202) 366-4583; Email: carla.rush@dot.gov; Facsimile: (202) 493-2739. For legal issues, you may contact Mr. John Piazza (John.Piazza@dot.gov), Office of Chief Counsel, Telephone: (202) 366-2992; Facsimile: (202) 366-3820. The address of these officials is: the National Highway Traffic Safety Administration, 1200 New Jersey Avenue SE, Washington, DC 20590.

SUPPLEMENTARY INFORMATION: In accordance with the memorandum of January 20, 2025, from the President to executive departments and agencies, entitled “Regulatory Freeze Pending Review,” ¹ this action temporarily delays until March 20, 2025, the effective date of the final rule amending the seat belt warning requirements in FMVSS No. 208 that was published in the Federal Register on January 3, 2025.²

¹ Available at https://www.whitehouse.gov/presidential-actions/2025/01/regulatory-freeze-pending-review/ (last accessed Jan. 22, 2025).

² 90 FR 390.

This action is exempt from notice and comment under 5 U.S.C. 553 and is effective immediately upon publication in the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication in the Federal Register.

Issued in Washington, DC, under authority delegated in 49 CFR 1.95 and 501.5.
Peter Simshauser,
Chief Counsel.

[FR Doc. 2025-02584 Filed 2-13-25; 8:45 am]

BILLING CODE P